NATIONAL AERONAUTICS AND SPACE ADMINISTRATION

[Notice (03-052)]

NASA Advisory Council, Aerospace Technology Advisory Committee; Meeting

AGENCY: National Aeronautics and Space Administration.

ACTION: Notice of meeting.

SUMMARY: In accordance with the Federal Advisory Committee Act, Public Law 92-463, as amended, the National Aeronautics and Space Administration announces a meeting of the NASA Advisory Council, Aerospace Technology Advisory Committee (ATAC).

DATES: Wednesday, June 25, 2003, 8 a.m. to 5 p.m.; and Thursday, June 26, 2003, 8 a.m. to 12 noon.

ADDRESSES: National Aeronautics and Space Administration, 300 E Street, SW., Room 6H46 (MIC 6), Washington, DC 20546.

FOR FURTHER INFORMATION CONTACT: Mrs. Mary-Ellen McGrath, Code RG, National Aeronautics and Space Administration, Washington, DC 20546, (202) 358-4729.

SUPPLEMENTARY INFORMATION: The meeting will be open to the public up to the seating capacity of the room. The agenda for the meeting is as follows:

—Opening Remarks

—Status of FY 2004 Aeronautics Initiatives

—Subcommittee Reports

—Status of Joint Program Office

—Potential Items for FY 2005 Budget

—Closing Comments

Attendees will be requested to sign a register and to comply with NASA security requirements, including the presentation of a valid picture ID, before receiving an access badge. Foreign nationals attending this meeting will be required to provide the following information: Full name; gender; date/place of birth; citizenship; visa/greencard information (number, type, expiration date); passport information (number, country, expiration date); employer/affiliation information (name of institution, address, country, phone); title/position of attendee. To expedite admittance, attendees can provide identifying information in advance by contacting Mary-Ellen McGrath via email at mary.E.mcgrath@nasa.gov or by telephone at 202-358-4729. Attendees will be escorted at all times.

It is imperative that the meeting be held on these dates to accommodate the scheduling priorities of the key participants.

June W. Edwards,
Advisory Committee Management Officer, National Aeronautics and Space Administration.

[FR Doc. 03-12726 Filed 5-20-03; 8:45 am]

BILLING CODE 7510-01-P